OFFICE OF THE UNITED STATES TRADE REPRESENTATIVE

Procurement Thresholds for Implementation of the Trade Agreements Act of 1979

AGENCY: Office of the United States Trade Representative.

ACTION: Notice.

SUMMARY: The U.S. Trade Representative has determined the U.S. dollar procurement thresholds to implement certain U.S. trade agreement obligations for calendar years 2026 and 2027.

DATES: This notice is applicable on its date of publication for calendar years 2026 and 2027.

FOR FURTHER INFORMATION CONTACT: Kate Psillos, Deputy Assistant U.S. Trade Representative for WTO and Multilateral Affairs, at (202) 395-9581 or Kathryn.W.Psillos@ustr.eop.gov.

SUPPLEMENTARY INFORMATION: Executive Order 12260 requires the U.S. Trade Representative to set the U.S. dollar thresholds for application of Title III of the Trade Agreements Act of 1979, as amended (19 U.S.C. 2511 et seq.). These obligations apply to covered procurements valued at or above specified U.S. dollar thresholds. On January 2, 2026, the U.S. Trade Representative published a notice in the Federal Register updating the thresholds for: (1) the World Trade Organization (WTO) Agreement on Government Procurement; (2) the United States-Korea Free Trade Agreement; (3) the United States-Morocco Free Trade Agreement; (4) the United States-Panama Trade Promotion Agreement; and (5) the United States-Peru Trade Promotion Agreement (See Procurement Thresholds for Implementation of the Trade Agreements Act of 1979, 94 FR 188 (January 2, 2026)). Due to a lapse in appropriations, the Bureau of Labor Statistics (BLS) delayed the release of certain data required to calculate the thresholds for the following agreements: (1) The United States-Australia Free Trade Agreement; (2) The United States-Bahrain Free Trade Agreement; (3) The United States-Chile Free Trade Agreement; (4) The United States-Colombia Trade Promotion Agreement; (5) The Dominican Republic-Central American-United States Free Trade Agreement; (6) The United States-Mexico-Canada Agreement (USMCA); (7) The United States-Oman Free Trade Agreement; and (8) The United States-Singapore Free Trade Agreement. The necessary data has now been released, and the thresholds for these agreements are now being updated with this second Federal Register notice.

In conformity with the provisions of Executive Order 12260, and in order to carry out U.S. trade agreement obligations, the U.S. Trade Representative has determined the U.S. dollar procurement thresholds, effective on January 1, 2026, for calendar years 2026 and 2027 are as follows:

I. Chapter 15 of the United States-Australia Free Trade Agreement

A. Central Government Entities listed in the U.S. Schedule to Annex 15-A, Section 1:

(1) Procurement of goods and services—$105,767; and

(2) Procurement of construction services—$6,683,000.

B. Sub-Central Government Entities listed in the U.S. Schedule to Annex 15-A, Section 2:

(1) Procurement of goods and services—$474,000; and

(2) Procurement of construction services—$6,683,000.

C. Other Entities listed in the U.S. Schedule to Annex 15-A, Section 3:

(1) Procurement of goods and services for List A Entities—$528,833;

(2) Procurement of goods and services for List B Entities—$535,000; and

(3) Procurement of construction services—$6,683,000.

II. Chapter 9 of the United States-Bahrain Free Trade Agreement

A. Central Government Entities listed in the U.S. Schedule to Annex 9-A-1:

(1) Procurement of goods and services—$174,000; and

(2) Procurement of construction services—$13,749,689.

B. Other Entities listed in the U.S. Schedule to Annex 9-A-2:

(1) Procurement of goods and services for List B entities—$535,000; and

(2) Procurement of construction services—$16,923,484.

III. Chapter 9 of the United States-Chile Free Trade Agreement

A. Central Government Entities listed in the U.S. Schedule to Annex 9.1, Section A:

(1) Procurement of goods and services—$105,767; and

(2) Procurement of construction services—$6,683,000.

B. Sub-Central Government Entities listed in the U.S. Schedule to Annex 9.1, Section B:

(1) Procurement of goods and services—$474,000; and

(2) Procurement of construction services—$6,683,000.

C. Other Entities listed in the U.S. Schedule to Annex 9.1, Section C:

(1) Procurement of goods and services for List A Entities—$528,833;

(2) Procurement of goods and services for List B Entities—$535,000; and

(3) Procurement of construction services—$6,683,000.

IV. Chapter 9 of the United States-Colombia Trade Promotion Agreement

A. Central Government Entities listed in the U.S. Schedule to Annex 9.1, Section A:

(1) Procurement of goods and services—$105,767; and

(2) Procurement of construction services—$6,683,000.

B. Sub-Central Government Entities listed in the U.S. Schedule to Annex 9.1, Section B:

(1) Procurement of goods and services—$474,000; and

(2) Procurement of construction services—$6,683,000.

C. Other Entities listed in the U.S. Schedule to Annex 9.1, Section C:

(1) Procurement of goods and services for List B Entities—$535,000; and

(2) Procurement of construction services—$6,683,000.

V. Chapter 9 of the Dominican Republic-Central American-United States Free Trade Agreement

A. Central Government Entities listed in the U.S. Schedule to Annex 9.1.2(b)(i), Section A:

(1) Procurement of goods and services—$105,767; and

(2) Procurement of construction services—$6,683,000.

B. Sub-Central Government Entities listed in the U.S. Schedule to Annex 9.1.2(b)(i), Section B:

(1) Procurement of goods and services—$474,000; and

(2) Procurement of construction services—$6,683,000.

C. Other Entities listed in the U.S. Schedule to Annex 9.1.2(b)(i), Section C:

(1) Procurement of goods and services for List B Entities—$535,000; and

(2) Procurement of construction services—$6,683,000.

VI. Chapter 13 of the United States—Mexico—Canada Agreement (USMCA) *

* Procurement obligations are between the U.S. and Mexico only *

A. Federal Government Entities listed in the U.S. Schedule to Annex 1001.1a-1:

(1) Procurement of goods and services—$105,767; and

(2) Procurement of construction services—$13,749,689.

B. Government Enterprises listed in the U.S. Schedule to Annex 1001.1a-2:

(1) Procurement of goods and services—$528,833; and

(2) Procurement of construction services—$16,923,484.

VII. Chapter 9 of the United States-Oman Free Trade Agreement

A. Central Level Government Entities listed in the U.S. Schedule to Annex 9, Section A:

(1) Procurement of goods and services—$174,000; and

(2) Procurement of construction services—$13,749,688.

B. Other Covered Entities listed in the U.S. Schedule to Annex 9, Section B:

(1) Procurement of goods and services for List B Entities—$535,000; and

(2) Procurement of construction services—$16,923,484.

VIII. Chapter 13 of the United States-Singapore Free Trade Agreement

A. Central Government Entities listed in the U.S. Schedule to Annex 13A, Schedule 1, Section A:

(1) Procurement of goods and services—$105,767; and

(2) Procurement of construction services—$6,683,000.

B. Sub-Central Government Entities listed in the U.S. Schedule to Annex 13A, Schedule 1, Section B:

(1) Procurement of goods and services—$474,000; and

(2) Procurement of construction services—$6,683,000.

C. Other Entities listed in the U.S. Schedule to Annex 13A, Schedule 1, Section C:

(1) Procurement of goods and services—$535,000; and

(2) Procurement of construction services—$6,683,000.

Neil Beck,
Assistant U.S. Trade Representative for WTO and Multilateral Affairs, Office of the United States Trade Representative.

[FR Doc. 2026-02106 Filed 2-2-26; 8:45 am]

BILLING CODE 3390-F4-P